Title 3—

The President

Proclamation 8427 of October 1, 2009

National Cybersecurity Awareness Month, 2009

By the President of the United States of America

A Proclamation

Americans are constantly adopting new and innovative technologies. This exposure has dramatically increased our thirst for computers, smartphones, and other digital solutions at work and at home. Our Nation’s growing dependence on cyber and information-related technologies, coupled with an increasing threat of malicious cyber attacks and loss of privacy, has given rise to the need for greater security of our digital networks and infrastructures. In the Information Age, the very technologies that empower us to create and build also empower those who would disrupt and destroy. During National Cybersecurity Awareness Month, we rededicate ourselves to promoting cybersecurity initiatives that ensure the confidentiality of sensitive information, the integrity of e-commerce, and the resilience of digital infrastructures.

Cyber attacks and their viral ability to infect networks, devices, and software must be the concern of all Americans. This month, we highlight the responsibility of individuals, businesses, and governments to work together to improve their own cybersecurity and that of our Nation. We all must practice safe computing to avoid attacks. A key measure of our success will be the degree to which all Americans educate themselves about the risks they face and the actions they can take to protect themselves and our Nation’s digital infrastructure.

The Department of Homeland Security (DHS) and the Federal Trade Commission (FTC) support and promote cybersecurity education. Both the DHS and the FTC have identified basic cybersecurity tips that every computer user should adopt. To learn more about safe computing practices that can help prevent cyber attacks, visit www.onguardonline.gov and www.dhs.gov/cyber.

The 21st century offers our Nation unprecedented opportunities to develop new solutions to the challenges we face. Today, technology allows Americans to reach across the globe and communicate with family and friends, customers and colleagues, in distant locations. With this freedom, however, comes heightened responsibility. My Administration is committed to treating our digital infrastructure as a strategic national asset. Protecting this infrastructure is a national security priority, and in the process, we will ensure that these networks are comprehensive, trustworthy, and resilient. Together, we will create a more secure America, where technology can evolve in a protected and productive environment.

NOW, THEREFORE, I, BARACK OBAMA, President of the United States of America, by virtue of the authority vested in me by the Constitution and the laws of the United States, do hereby proclaim October 2009 as National Cybersecurity Awareness Month. I call upon the people of the United States to recognize the importance of cybersecurity and to observe this month with appropriate activities, events, and trainings to enhance our national security and resilience.

IN WITNESS WHEREOF, I have hereunto set my hand this first day of October, in the year of our Lord two thousand nine, and of the Independence of the United States of America the two hundred and thirty-fourth.

[FR Doc. E9-24288

Filed 10-6-09; 8:45 am]

Billing code 3195-W9-P